DEPARTMENT OF THE INTERIOR

Bureau of Safety and Environmental Enforcement

[Docket ID BSEE-2023-0002; EEEE500000 234E1700D2 ET1SF0000.EAQ000: OMB Control Number 1014-0010]

Agency Information Collection Activities; Decommissioning Activities

AGENCY: Bureau of Safety and Environmental Enforcement, Interior.

ACTION: Notice of Information Collection; request for comment.

SUMMARY: In accordance with the Paperwork Reduction Act (PRA) of 1995, the Bureau of Safety and Environmental Enforcement (BSEE) proposes to renew an information collection.

DATES: Interested persons are invited to submit comments on or before April 10, 2023.

ADDRESSES: Send your comments on this information collection request (ICR) by either of the following methods listed below:

• Electronically go to http://www.regulations.gov. In the Search box, enter BSEE-2023-0002 then click search. Follow the instructions to submit public comments and view all related materials. We will post all comments.

• Email kye.mason@bsee.gov, fax (703) 787-1546, or mail or hand-carry comments to the Department of the Interior; Bureau of Safety and Environmental Enforcement; Regulations and Standards Branch; ATTN: Nicole Mason; 45600 Woodland Road, Sterling, VA 20166. Please reference OMB Control Number 1014-0010 in the subject line of your comments.

FOR FURTHER INFORMATION CONTACT: To request additional information about this ICR, contact Nicole Mason by email at kye.mason@bsee.gov or by telephone at (703) 787-1607. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the PRA and 5 CFR 1320.8(d)(1), all information collections require approval under the PRA. We may not conduct, or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

BSEE proposes to renew this information collection, without change, in order to extend the expiration date for the collection (currently April 30, 2023) while we continue to finalize our rulemaking under RIN 1082-AA02, Risk Management, Financial Assurance and Loss Prevention—Decommissioning Activities and Obligations. On October 16, 2020, we published the proposed rule (85 FR 65904) to revise the regulations related to decommissioning responsibilities of Outer Continental Shelf (OCS) oil, gas, and sulfur lessees and grant holders to ensure compliance with lease, grant, and regulatory obligations. The comment period for the proposed rule ended on December 13, 2020.

The final rule will require all recipients of a predecessor decommissioning order to submit a work plan and schedule as directed under §§ 250.1704(b) and 250.1708(a). BSEE considers this necessary to protect the public from incurring future decommissioning costs and to prevent safety and environmental risks posed by delayed performance of decommissioning. Within 150 days of receiving an order to perform decommissioning under § 250.1708, the recipient(s) will be required to submit a work plan and projected decommissioning schedule that addresses all wells, platforms and other facilities, pipelines, and site clearance. This requirement will add an estimated 4,320 annual burden hours to the existing collection. We anticipate publication of the final rule under RIN 1082-AA02 in 2023.

Abstract: BSEE uses the information collected under Subpart Q primarily for the following reasons:

• To determine the necessity for allowing a well to be temporarily abandoned, the lessee/operator must demonstrate that there is a reason for not permanently plugging the well, and the temporary abandonment will not interfere with fishing, navigation, or other uses of the OCS. We use the information and documentation to verify that the lessee/operator is diligently pursuing the final disposition of the well and has performed the temporary plugging of the wellbore.

• To ensure the information submitted in initial decommissioning plans in the Alaska and Pacific OCS Regions will permit BSEE to become involved on the ground floor planning of platform removals anticipated to occur in these OCS regions.

• To ensure that all objects (wellheads, platforms, etc.) installed on the OCS are properly removed using procedures that will protect marine life and the environment during removal operations, and the site cleared so as not to conflict with or harm other uses of the OCS in coordination with other Federal, State, and local government agencies.

• To ensure that information regarding decommissioning a pipeline in place will not constitute a hazard to navigation and commercial fishing operations, unduly interfere with other uses of the OCS, such as sand resource areas for coastal restoration projects, or have adverse environmental effects.

• To verify that decommissioning activities comply with approved applications and procedures and are satisfactorily completed.

• To evaluate and approve the adequacy of the equipment, materials, and/or procedures that the lessee or operator plans to use during well modifications and changes in equipment, etc.

• To help BSEE better estimate future decommissioning costs for OCS leases, rights-of-way, and rights of use and easements. BSEE's future decommissioning cost estimates may then be used by BOEM to set necessary financial assurance levels to minimize or eliminate the possibility that the government will incur abandonment liability. The information will assist BSEE and BOEM in meeting their stewardship responsibilities and in their roles as regulators.

Title of Collection: 30 CFR 250, Subpart Q, Decommissioning Activities.

OMB Control Number: 1014-0010.

Form Number: None.

Type of Review: Extension of a currently approved collection.

Respondents/Affected Public: Potential respondents include Federal OCS oil, gas, and sulfur lessees and/or operators and holders of pipeline rights-of-way.

Total Estimated Number of Annual Respondents: Currently there are approximately 555 Federal OCS oil, gas, and sulfur lessees and holders of pipeline rights-of-way. Not all the potential respondents will submit information in any given year, and some may submit multiple times.

Total Estimated Number of Annual Responses: 3,245.

Estimated Completion Time per Response: Varies from 15 minutes to 28 hours, depending on activity.

Total Estimated Number of Annual Burden Hours: 11,677.

Respondent's Obligation: Mandatory.

Frequency of Collection: Submissions are generally on occasion, varies by section, and annual.

Total Estimated Annual Nonhour Burden Cost: $1,143,556.

Citation 30 CFR 250 subpart Q | Reporting requirement * | Non-hour cost burdens: Hour burden | Non-hour cost burdens: Average number of annual responses | Non-hour cost burdens: Annual burden hours (rounded)
General
1704(g); 1706(a), (f); 1712; 1715; 1716; 1721(a), (d), (f)-(g); 1722(a), (b), (d); 1723(b); 1743(a); Sub G | These sections contain references to information, approvals, requests, payments, etc., which are submitted with an APM, the burdens for which are covered under its own information collection | APM burden covered under 1014-0026
1700 thru 1754 | General departure and alternative compliance requests not specifically covered elsewhere in Subpart Q regulations | Burden covered under Subpart A 1014-0022 |  | 0
1703; 1704 | Request approval for decommissioning | Burden included below |  | 0
1704(i), (j) | Submit to BSEE, within 120 days after completion of each decommissioning activity, a summary of expenditures incurred; any additional information that will support and/or verify the summary | 1 | 1,320 summaries (including pipelines)/additional information | 1,320
1704(i); NTL | Request and obtain approval for extension of 120-day reporting period; including justification | 15 min. | 75 requests | 19
1704(i) | Submit certified statement attesting to accuracy of the summary for expenditures incurred | Exempt from the PRA under 5 CFR 1320.3(i)(1). |  | 0
1712 | Required data if permanently plugging a well | Requirement not considered Information Collection under 5 CFR 1320.3(h)(9) |  | 0
1713 | Notify BSEE 48 hours before beginning operations to permanently plug a well | 0.5 | 725 notices | 363
1721(f) | Install a protector structure designed according to 30 CFR 250, Subpart I, and equipped with aids to navigation. (These requests are processed via the appropriate Platform Application, 30 CFR 250 Subpart I by the OSTS.) | Burden covered under Subpart I 1014-0011 |  | 0
1721(e); 1722(e), (h)(1); 1741(c) | Identify and report subsea wellheads, casing stubs, or other obstructions; mark wells protected by a dome; mark location to be cleared as navigation hazard | U.S. Coast Guard requirements |  | 0
1722(c), (g)(2); 1704(h) | Notify BSEE within 5 days if trawl does not pass over protective device or causes damages to it; or if inspection reveals casing stub or mud line suspension is no longer protected | 1 | 11 notices | 11
1722(f), (g)(3) | Submit annual report on plans for re-entry to complete or permanently abandon the well and inspection report | 2.5 | 98 reports | 245
1722(h) | Request waiver of trawling test | 1.5 | 4 requests | 6
1725(a) | Requests to maintain the structure to conduct other activities are processed, evaluated, and permitted by the OSTS via the appropriate Platform Application process, 30 CFR 250 Subpart I. (Other activities include but are not limited to activities conducted under the grants of right-of-ways (ROWs), rights-of-use and easement (RUEs), and alternate rights-of-use and easement authority issued under 30 CFR 250 Subpart J, 30 CFR 550.160, and/or 30 CFR 585, etc.) | Burden covered under Subpart I 1014-0011 |  | 0
1725(e) | Notify BSEE 48 hours before beginning removal of platform and other facilities | 0.5 | 133 notices | 67
1726; 1704(a) | Submit initial decommissioning application in the Pacific and Alaska OCS Regions | 20 | 2 applications | 40
1727; 1728; 1730; 1703; 1704(b); 1725(b) | Submit final application and appropriate data to remove platform or other subsea facility structures (This included alternate depth departures and/or approvals of partial removal or toppling for conversion to an artificial reef.) | 28 | 153 applications | 4,284
|  | "$4,684 fee × 153 = $716,652
1729; 1704(c) | Submit post platform or other facility removal report; supporting documentation; signed statements, etc | 9.5 | 133 reports | 1,264
1740; 1741(g) | Request approval to use alternative methods of well site, platform, or other facility clearance; contact pipeline owner/operator before trawling to determine its condition | 12.75 | 30 requests/contacts | 383
1743(b); 1704(f), (h) | Verify permanently plugged well, platform, or other facility removal site cleared of obstructions; supporting documentation; and submit certification letter | 5 | 117 certifications | 585
1750; 1751; 1752; 1754; 1704(d) | Submit application to decommission pipeline in place or remove pipeline (L/T or ROW) | 10 | 142 L/T applications | 1,420
|  | $1,142 L/T decommission fee × 142 = $162,164
|  | 10 | 122 ROW applications | 1,220
|  | $2,170 ROW decommissioning fees × 122 = $264,740
1753; 1704(e) | Submit post pipeline decommissioning report | 2.5 | 180 reports | 450
Total Burden |  |  | 3,245 responses | 11,677
|  |  | $1,143,556 Non-Hour Cost Burdens
L/T = Lease Term.
Burden Breakdown.
ROW = Right of Way.

An agency may not conduct, or sponsor and a person is not required to respond to a collection of information unless it displays a currently valid OMB control number.

The authority for this action is the Paperwork Reduction Act of 1995 (44 U.S.C. 3501 et seq.).

Kirk Malstrom,
Chief, Regulations and Standards Branch.

[FR Doc. 2023-02647 Filed 2-7-23; 8:45 am]

BILLING CODE 4310-VH-P